FEDERAL DEPOSIT INSURANCE CORPORATION

[OMB No. 3064-0072]

Agency Information Collection Activities: Proposed Collection Renewal; Comment Request

AGENCY: Federal Deposit Insurance Corporation (FDIC).

ACTION: Agency Information Collection Activities: Submission for OMB Review; Comment Request.

SUMMARY: The FDIC, as part of its obligations under the Paperwork Reduction Act of 1995, invites the general public and other Federal agencies to take this opportunity to comment on the request to renew the existing information collections described below (OMB Control No. 3064-0072).

DATES: Comments must be submitted on or before February 18, 2022.

ADDRESSES: Interested parties are invited to submit written comments to the FDIC by any of the following methods:

• Agency Website: https://www.fdic.gov/resources/regulations/federal-register-publications/index.html.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street building (located on F Street), on business days between 7:00 a.m. and 5:00 p.m.

Written comments and recommendations for the proposed information collection should be sent within 30 days of publication of this notice to www.reginfo.gov/public/do/PRAMain. Find this particular information collection by selecting “Currently under 30-day Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collections of information:

1. Title: Acquisition Services Information Requirements.

OMB Number: 3064-0072.

Form Number: None.

Affected Public: Private sector, business and other for-profit entities.

Burden Estimate:

Summary of Annual Burden
[OMB No. 3064-0072]
| Type of burden | Obligation to respond | Number of respondents | Responses per respondent | Time per response | Frequency of response | Total annual estimated burden
Request for Proposal and Price Quotation (includes Basic Safeguards)—Solicitation/Award (Form 3700/55) | Reporting | Required to Obtain or Retain Benefits | 634 | 1 | 8.96 | On Occasion | 5,681
Request for Information | Reporting | Voluntary | 107 | 1 | 58.74 | On Occasion | 6,285
Background Investigation Questionnaire for Contractor Personnel and Subcontractors (Form 1600/04) | Reporting | Required to Obtain or Retain Benefits | 185 | 1 | 0.33 | On Occasion | 61
Background Investigation Questionnaire for Contractors (Form 1600/07) | Reporting | Required to Obtain or Retain Benefits | 120 | 1 | 0.5 | On Occasion | 60
Background Investigation Questionnaire for Contractors (Form 1600/10) | Reporting | Required to Obtain or Retain Benefits | 185 | 1 | 0.17 | On Occasion | 31
Leasing Representations and Certifications (Form 3700/44) | Reporting | Required to Obtain or Retain Benefits | 15 | 1 | 1 | On Occasion | 15
Past Performance Questionnaire (Form 3700/57) | Reporting | Required to Obtain or Retain Benefits | 400 | 1 | 0.75 | On Occasion | 300
Contractor Representations and Certifications (Form 3700/04A) | Reporting | Required to Obtain or Retain Benefits | 1 | 1 | 0.67 | On Occasion | 1
Integrity and Fitness Representations and Certifications (Form 3700/12) | Reporting | Required to Obtain or Retain Benefits | 1 | 1 | 0.33 | On Occasion | 1
Prize Competitions—Application | Reporting | Required to Obtain or Retain Benefits | 100 | 1 | 1 | On Occasion | 100
Prize Competitions—Proposal | Reporting | Required to Obtain or Retain Benefits | 5 | 1 | 60 | On Occasion | 300
Innovation Pilot Programs—Application | Reporting | Required to Obtain or Retain Benefits | 150 | 1 | 20 | On Occasion | 3,000
Innovation Pilot Programs—Proposal | Reporting | Required to Obtain or Retain Benefits | 90 | 1 | 60 | On Occasion | 5,400
Total Hourly Burden |  |  |  |  |  |  | 21,235

General Description of Collection: This information collection involves the submission of various forms by (1) contractors who wish to do business with the FDIC or are currently under contract with the FDIC; (2) those vendors and parties participating in innovation pilot programs and prize competitions with the possibility of being awarded a contract; and (3) government agencies or commercial businesses that provide FDIC with past performance information. There is no change in the method or substance of the collection. However, the FDIC has amended this submission to account for the burdens associated with vendors and parties participating in innovation pilot programs and prize competitions.

The Federal Deposit Insurance Act (12 U.S.C. Section 1819) empowers the FDIC to enter into contracts using private sector contractors to provide goods or services. The Act also provides that the FDIC may promulgate policies and procedures to administer the powers granted to it, including the power to enter into contracts. Pursuant to such policies, the Acquisition and Corporate Services Branch of the FDIC's Division of Administration has developed forms and clauses to facilitate the procurement of goods and services from private sector contractors. The information collected through these forms and clauses fall under the definition of collection of information under the Paperwork Reduction Act of 1995 (PRA).

During the review of the renewal of this Acquisition Services Information Requirements information collection, FDIC determined that portions of the PRA burdens that are currently under the information collection entitled Innovation Pilot Programs. (OMB No. 3064-0212) should be transferred to this information collection (OMB No. 3064-0072). OMB No. 3064-0212 involves the collection of information from third parties (banks and firms in partnership with banks) who are invited to voluntarily propose time-limited pilot programs, which will be collected and considered by the FDIC on a case-by-case basis. FDIC has determined that the burdens associated with OMB No. 3064-0212 that contain the possibility of entering into a contract with the FDIC should be transferred to OMB No. 3064-0072. To avoid duplication of burden hours, OMB No. 3064-0212 will be separately amended to only contain the burden on IDIs and third parties that are involved in the various projects that third parties may engage in. FDIC determined that OMB No. 3064-0072 should include the burden involved with the preparation and submission of applications to participate in FDIC-sponsored or co-sponsored prize competitions if the outcome of those prize competitions includes the possibility of entering into a contract with the FDIC. These burdens are similar to the burdens currently under the IC entitled Generic Clearance for Prize Competition Participation (OMB No. 3064-0211). However, OMB No. 3064-0211 contains and will continue to contain those burdens associated with prize competitions whose outcomes do not include the possibility of a entering into a contract with the FDIC.

New Burden: Prize Competitions—Estimated Number of Respondents, Responses and Hourly Burdens

As described above, this ICR adds to OMB No. 3064-0072 the burdens involved with the preparation and submission of applications to participate in FDIC-sponsored or co-sponsored prize competitions if the outcomes of those prize competitions include the possibility of entering into a contract with the FDIC. The information associated with this burden are collected from potential and actual participants (including technologists, coders, engineers and developers; consumers of financial services; consumer advocates; academics; members of trade groups and other associations; individuals connected to financial institutions, community banks, and financial and bank service and technology providers; software, data, and technology firms; and other members of the public) of those prize competitions. The FDIC collects information from respondents during both an application phase and during a proposal phase.

1. Application Phase: The FDIC has never conducted a prize competition where outcomes included the possibility of entering into a contract with the FDIC. FDIC anticipates that approximately 100 applications would be received if the FDIC were to initiate such a prize competition. For the purposes of this ICR, FDIC assumes that each application is submitted by a distinct respondent. Thus, in the above burden table, for the line item Prize Competition—Application, FDIC assumes that the number of responses per respondent is one and use a respondent count of 100 per year.

In order for the FDIC to determine which applicants will be eligible and selected to participate in FDIC prize competitions, the FDIC will request that potential participants provide their name, contact information, address, and such other information that may be necessary to evaluate applicants' qualifications and ability to participate in the event as well as to match the applicants' anticipated role to the needs of the competition. Applicants will also be asked to acknowledge the terms and conditions of participating in the prize competition. Based on their experience with previous prize competitions, FDIC estimates that respondents will spend, on average, one hour to prepare and submit an application.

2. Proposal Phase: Certain participants in these prize competitions may be invited to present a contract proposal to be considered by the FDIC. Should such a prize competition occur, FDIC assumes that it would receive five contract proposals per year. For the purposes of this ICR, FDIC assumes that each proposal is submitted by a distinct respondent. Thus, for the line item Prize Competition—Proposal, FDIC assumes that the number of responses per respondent is one and use a respondent count of five per year.

Based on experience with previous prize competitions, FDIC expects that respondents will spend, on average, 60 hours to prepare and submit a proposal. Thus, for the line item Prize Competition—Proposal, FDIC estimates a time burden of 60 hours per response.

Transferred Burden From OMB No. 3064-0212: Innovation Pilot Program—Estimated Number of Respondents, Responses and Hourly Burdens

As described above, this ICR transfers the burdens that contain the possibility of entering into a contract with the FDIC from OMB No. 3064-0212 to OMB No. 3064-0072. The information associated with this burden are collected from innovators who are invited to voluntarily propose time-limited pilot programs. The program is typically conducted in four phases, with a declining number of companies advancing at each phase. The FDIC provides fixed monetary awards for the successful completion of some of these phases. In order to evaluate potential contractors, the FDIC collects information from respondents twice: During an application phase and during a proposal phase.

1. Application Phase: The FDIC issues a call for concept papers as a general solicitation. Interested parties respond by submitting concept papers, thus becoming offerors. The FDIC then subjectively assesses those papers to determine its confidence in the prospective merits of those concept papers as well as the FDIC's confidence in the offeror's apparent ability to transform concepts into real-world solutions. FDIC used its experience with the first Innovation Pilot Program ¹ to estimate that 50 concept papers are submitted to the FDIC in response to a call. Although one company could submit multiple concept papers to one call, or different concept papers to different calls, the FDIC considers a concept paper submission for each call to be from a distinct respondent. The FDIC anticipates issuing three calls per year. Thus, for purposes of this information collection item, FDIC estimates 150 respondents per year and one response per respondent per year. FDIC believes that the hourly burden for preparing concept papers to be similar to that of RFPs. However, the applications for pilot programs are usually more extensive than the average RFP. Based on the hourly burden estimated for RFPs, FDIC estimates that each application will take 20 hours to prepare and submit. Thus, for the line item Innovation Pilot Program—Application, FDIC estimates a time burden of 20 hours per response.

¹ The first Innovation Pilot Program, Rapid Phased Prototyping (RPP), began in August 2020. Details for RPP can be found at https://www.fdic.gov/fditech/rpp.html (last accessed September 30, 2021). The proposal submission phase for RPP is expected to finish in 2021. The FDIC received 35 applications for RPP; FDIC conservatively estimates 50 responses per pilot program to account for the fact that future collections could receive increased interest. The FDIC also anticipates holding up to three pilots a year, for a total of 150 estimated applications per year.

2. Proposal Phase: During a pilot program, all contractors who are participating will provide an initial summary of the terms and conditions (including price, deliverables, intellectual property rights, and so forth) it contemplates proposing for a follow-on pilot. The FDIC may provide feedback to the contractor and contractors may resubmit their proposal one or more times based on feedback received. Based on their experience with rapid Phase Prototyping (RPP), FDIC estimates that approximately 60 percent of applications received in response to calls for concept papers, or 90 applications per year,² will be invited to submit contract proposal. As above, the FDIC assumes each response to be from a distinct respondent. Thus, for the line item Innovation Pilot Program—Proposal, FDIC estimates 90 respondents per year and one response per respondent per year. FDIC believes that, given the iterative nature of the RPP process, it is likely that contractors will go through multiple iterations of contract proposals. FDIC assumes that each respondent will have to revise their submission twice, on average. In addition, these contract proposals include pricing, terms, and conditions, which will require more time than the concept papers. Given these differences, FDIC estimates that each response to an Innovation Pilot Program—Proposal will take 60 hours to prepare and submit.

² 90 contract proposals = 50 application per call * 3 calls per year * 60%.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Dated at Washington, DC, this 12th day of January 2022.
Federal Deposit Insurance Corporation.
James P. Sheesley,
Assistant Executive Secretary.

[FR Doc. 2022-00865 Filed 1-18-22; 8:45 am]

BILLING CODE 6714-01-P